DEPARTMENT OF THE TREASURY

Office of Foreign Assets Control

Sanctions Actions Pursuant to Executive Order 13413

AGENCY: Office of Foreign Assets Control, Treasury.

ACTION: Notice.

SUMMARY: The Treasury Department's Office of Foreign Assets Control (OFAC) is publishing the name of one individual whose property and interests in property are blocked pursuant to Executive Order (E.O.) 13413, and whose name has been added to OFAC's list of Specially Designated Nationals and Blocked Persons (SDN List).

DATES: OFAC's actions described in this notice were effective June 23, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, Department of the Treasury, or Office of the Chief Counsel (Foreign Assets Control), tel.: 202/622-2410, in the Office of the General Counsel, Department of the Treasury (not toll free numbers).

SUPPLEMENTARY INFORMATION:

Electronic and Facsimile Availability

The SDN List and additional information concerning OFAC sanctions programs are available on OFAC's Web site (www.treasury.gov/ofac).

Notice of OFAC Actions

On June 23, 2016 OFAC blocked the property and interests in property of the following individual pursuant to E.O. 13413, “Blocking Property of Certain Persons Contributing to the Conflict in the Democratic Republic of the Congo”:

1. KANYAMA, Celestin (Latin: KANYAMA, Céléstin) (a.k.a. KANYAMA TSHISIKU, Celestin; a.k.a. KANYAMA, Celestin Cishiku); DOB 04 Oct 1960; POB Kananga, Democratic Republic of the Congo; nationality Congo, Democratic Republic of the; Gender Male; Passport OB0637580 issued 20 May 2014 expires 19 May 2019; Kinshasa Police Chief (individual) [DRCONGO].

Dated: June 23, 2016.
John E. Smith,
Acting Director, Office of Foreign Assets Control.

[FR Doc. 2016-15205 Filed 6-27-16; 8:45 am]

BILLING CODE 4810-AL-P